DEPARTMENT OF COMMERCE

International Trade Administration

A-570-832

Pure Magnesium from the People's Republic of China: Extension of Time for the Preliminary Results of the Antidumping Duty Administrative Review

AGENCY: Import Administration, International Trade Administration, Department of Commerce.

EFFECTIVE DATE: May 5, 2008.

FOR FURTHER INFORMATION CONTACT: Hua Lu, AD/CVD Operations, Office 8, Import Administration, International Trade Administration, U.S. Department of Commerce, 14th Street and Constitution Avenue, NW, Washington, DC 20230; telephone: (202) 482-6478.

SUPPLEMENTARY INFORMATION:

Background

On February 6, 2008, the Department of Commerce (“the Department”) published in the Federal Register a notice for an extension of time to issue the preliminary results of the antidumping duty administrative review on pure magnesium from the People's Republic of China (“PRC”). See Pure Magnesium from the People's Republic of China: Extension of Time for the Preliminary Results of the Antidumping Duty Administrative Review, 73 FR 6931 (February 6, 2008). The Department extended the time period for issuing the preliminary results of review by 90 days until April 30, 2008.

Extension of Time Limit of Preliminary Results.

Section 751(a)(3)(A) of the Tariff Act of 1930, as amended (“Act”), requires the Department to issue preliminary results within 245 days after the last day of the anniversary month of an order for which a review is requested and the final results within 120 days after the date on which the preliminary results are published. However, if it is not practicable to complete the review within this time period, section 751(a)(3)(A) of the Act allows the Department to extend the 245-day time period to a maximum of 365 days. We determine that completion of the preliminary results of this review within the 335-day period is not practicable because the Department requires additional time to analyze information pertaining to the respondents' sales practices, factors of production, and to issue and review responses to supplemental questionnaires.

Because it is not practicable to complete this review within the time specified under the Act, we are fully extending the time period for issuing the preliminary results of to 365 days. Therefore, the preliminary results are now due no later than May 30, 2008, in accordance with section 751(a)(3)(A) of the Act. The final results continue to be due 120 days after the publication of the preliminary results.

This notice is published pursuant to sections 751(a)(3)(A) of the Act and 19 CFR 351.213(h)(2).

Dated: April 29, 2008.
Stephen J. Claeys,
Deputy Assistant Secretary for Import Administration.

[FR Doc. E8-9891 Filed 5-2-08; 8:45 am]

BILLING CODE 3510-DS-S